DEPARTMENT OF ENERGY

Notice of Request for Information (RFI) on Office of Energy Efficiency & Renewable Energy's Medium- and Heavy-Duty Truck Research and Development Activities & SuperTruck Initiative

AGENCY: Office of Energy Efficiency and Renewable Energy, Department of Energy (DOE).

ACTION: Request for Information (RFI).

SUMMARY: The U.S. Department of Energy (DOE) invites public comment on its Request for Information (RFI) number DE-FOA-0002372 regarding the Office of Energy Efficiency & Renewable Energy's (EERE) Medium- and Heavy-Duty Truck Research and Development Activities & SuperTruck Initiative. The purpose of this RFI is to solicit feedback from industry, academia, research laboratories, government agencies, and other stakeholders on issues related to medium and heavy-duty freight trucking. EERE is specifically interested in information on safe, efficient, affordable solutions that reduce energy use, emissions and total cost of ownership (purchase, fuel, maintenance and operational cost) for medium and heavy duty trucking. This request for information will help to inform the discussion topics during a public workshop EERE is planning for the December 2020 timeframe to identify gaps and barriers to commercializing new technologies, and help inform DOE's R&D and competitive funding strategy into the next ten years.

DATES: Responses to the RFI must be received by November 9, 2020.

ADDRESSES: Interested parties are to submit comments electronically to VTO@ee.doe.gov. Include “Medium and Heavy Duty Truck R&D Activities and SuperTruck Initiative RFI” in the subject line of the email. Responses must be provided as attachments to an email. Only electronic responses will be accepted. The complete RFI document is located at https://eere-exchange.energy.gov/.

FOR FURTHER INFORMATION CONTACT: Questions may be addressed to VTO@ee.doe.gov or to Kenneth Howden at 202-586-3631. Further instruction can be found in the RFI document posted on EERE Exchange at https://eere-exchange.energy.gov/.

SUPPLEMENTARY INFORMATION: The purpose of this RFI is to solicit feedback from industry, academia, research laboratories, government agencies, and other stakeholders on issues related to medium and heavy-duty freight trucking. EERE is specifically interested in information on safe, efficient, affordable solutions that reduce energy use, emissions and total cost of ownership (purchase, fuel, maintenance and operational cost) for medium and heavy duty trucking. This request for information will help to inform the discussion topics during a public workshop DOE is planning for the December 2020 timeframe to identify gaps and barriers to commercializing new technologies, and help inform DOE's R&D and competitive funding strategy into the next ten years. Feedback is requested in the following categories outlined in the RFI: (1) Freight Operational Efficiency and Systems, (2) Internal Combustion Engine, Powertrain, Fuels, and Emissions Control, (3) Batteries, Electrification, and Charging of MD/HD Trucks, (4) Hydrogen and Fuel Cell Trucking, and (5) Other important considerations. Specific questions can be found in the RFI. The RFI is available at: https://eere-exchange.energy.gov/.

Confidential Business Information: Pursuant to 10 CFR 1004.11, any person submitting information that he or she believes to be confidential and exempt by law from public disclosure should submit via email, postal mail, or hand delivery two well-marked copies: One copy of the document marked “confidential” including all the information believed to be confidential, and one copy of the document marked “non-confidential” with the information believed to be confidential deleted. Submit these documents via email or on a CD, if feasible. DOE will make its own determination about the confidential status of the information and treat it according to its determination.

Signing Authority: This document of the Department of Energy was signed on October 5, 2020, by David Howell, Acting Director, Vehicle Technologies Office, Office of Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on October 6, 2020.
Treena V. Garrett,
Federal Register Liaison Officer, U.S. Department of Energy.

[FR Doc. 2020-22421 Filed 10-8-20; 8:45 am]

BILLING CODE 6450-01-P